FEDERAL DEPOSIT INSURANCE CORPORATION

[OMB No. 3064-0121; -0135]

Agency Information Collection Activities: Proposed Collection Renewal; Comment Request

AGENCY: Federal Deposit Insurance Corporation (FDIC).

ACTION: Notice and request for comment.

SUMMARY: The FDIC, as part of its obligations under the Paperwork Reduction Act of 1995 (PRA), invites the general public and other Federal agencies to take this opportunity to comment on the renewal of the existing information collections described below (OMB Control No. 3064-0121 and -0135).

DATES: Comments must be submitted on or before February 7, 2025.

ADDRESSES: Interested parties are invited to submit written comments to the FDIC by any of the following methods:

• Agency Website: https://www.fdic.gov/resources/regulations/federal-register-publications/.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street NW building (located on F Street NW), on business days between 7 a.m. and 5 p.m.

All comments should refer to the relevant OMB control number. A copy of the comments may also be submitted to the OMB desk officer for the FDIC: Office of Information and Regulatory Affairs, Office of Management and Budget, New Executive Office Building, Washington, DC 20503.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION: Proposal to renew the following currently approved collections of information:

1. Title: Certification of Compliance with Mandatory Bars to Employment.

OMB Number: 3064-0121.

Form Number: 2120/16.

Affected Public: Individuals seeking employment from the FDIC.

Burden Estimate:

Summary of Estimated Annual Burden
[OMB No. 3064-0121]
Information collection (IC) (obligation to respond) | Type of burden (frequency of response) | Number of respondents | Number of responses per respondent | Time per response (HH:MM) | Annual burden (hours)
1. Form 2120/16, (Mandatory) | Reporting (Annual) | 866 | 1 | 00:10 | 144
Total Annual Burden (Hours) |  |  |  |  | 144
Source: FDIC.

General Description of Collection: This information collection arises from the reporting requirements contained in 12 CFR part 336, subpart B, of the FDIC Rules and Regulations entitled “Minimum Standards of Fitness for Employment with the Federal Deposit Insurance Corporation.” This rule implements section 19 of the Resolution Trust Corporation Completion Act, Public Law 103-204, by (among other things) prescribing a certification, with attachments in some cases, relating to job applicants' fitness and integrity. More specifically, the statute provides that the FDIC shall issue regulations implementing provisions that prohibit any person from becoming employed by the FDIC who has been convicted of any felony; has been removed from, or prohibited from participating in the affairs of, any insured depository institution pursuant to any final enforcement action by any appropriate Federal banking agency; has demonstrated a pattern or practice of defalcation regarding obligations to insured depository institutions; or has caused a substantial loss to Federal deposit insurance funds. This collection of information implements these mandatory bars to employment through a certification, signed by job applicants prior to an offer of employment using Form 2120/16. There is no change in the methodology or substance of this information collection. The increase in total estimated annual burden from 88 hours in 2022 to 144 hours currently is due to an increase in the estimated number of respondents.

2. Title: Purchaser Eligibility Certification.

OMB Number: 3064-0135.

Form Number: 7300/06.

Affected Public: Individuals and entities wishing to purchase receivership assets from the FDIC.

Burden Estimate:

Summary of Estimated Annual Burden
[OMB No. 3064-0135]
Information collection (IC) (obligation to respond) | Type of burden (frequency of response) | Number of respondents | Number of responses per respondent | Time per response (HH:MM) | Annual burden (hours)
1. Purchaser Eligibility Certification, 12 CFR 340 (Required to obtain or retain benefits) | Reporting (On Occasion) | 140 | 1 | 00:30 | 70
Total Annual Burden (Hours) |  |  |  |  | 70
Source: FDIC.

General Description of Collection: The FDIC is statutorily prohibited from selling assets held by insured depository institutions that have been placed under the conservatorship or receivership of the FDIC to individuals or entities that profited or engaged in wrongdoing at the expense of those failed institutions, or seriously mismanaged those failed institutions. This statutory prohibition is implemented by regulation. The FDIC uses Form No. 7300-06: Purchaser Eligibility Certification (PEC) to determine an entity or person's eligibility to purchase assets. This information collection (IC) pertains to the voluntary submission of the PEC by persons seeking to certify their eligibility to be able to purchase receivership assets. Potential respondents to this IC include any entity or individual that wishes to bid on or purchase assets held by insured depository institutions that have been placed under the conservatorship or receivership of the FDIC. There is no change in the substance of this IC. The decrease in total estimated annual burden from 190 hours in 2022 to 70 hours currently is due a decrease in the estimated number of annual respondents for cash sales, ORE sales, and securities sales as compared to the 2022 IC, reflecting the decrease in forecasted sales. This decrease is attenuated by the inclusion of joint venture transactions in the calculation of the estimated number of respondents, which were not included in the 2022 IC.

Request for Comment

Comments are invited on (a) whether the collections of information are necessary for the proper performance of the FDIC's functions, including whether the information has practical utility; (b) the accuracy of the estimates of the burden of the information collections, including the validity of the methodology and assumptions used; (c) ways to enhance the quality, utility, and clarity of the information to be collected; and (d) ways to minimize the burden of the collections of information on respondents, including through the use of automated collection techniques or other forms of information technology. All comments will become a matter of public record.

Federal Deposit Insurance Corporation.
Dated at Washington, DC, December 4, 2024.
James P. Sheesley,
Assistant Executive Secretary.

[FR Doc. 2024-28842 Filed 12-6-24; 8:45 am]

BILLING CODE 6714-01-P